OFFICE OF NATIONAL DRUG CONTROL POLICY

Appointment of Members of Senior Executive Services Performance Review Board

AGENCY: Office of National Drug Control Policy (ONDCP).

ACTION: Notice of appointments.

SUMMARY: The following persons have been appointed to the ONDCP Senior Executive Service Performance Review Board: Ms. Michele Marx, Mr. Joseph Keefe, Ms. Christine Morden and Mr. Robert Denniston.

FOR FURTHER INFORMATION: Please direct any questions to Linda V. Priebe, Assistant General Counsel, (202) 395-6622, Office of National Drug Control Policy, Executive Office of the President, Washington, DC 20503.

Linda V. Priebe,
Assistant General Counsel.

[FR Doc. 04-23255 Filed 10-15-04; 8:45 am]

BILLING CODE 3180-02-P